DEPARTMENT OF EDUCATION

[Docket No. ED-2012-ICCD-0063]

Agency Information Collection Activities; Submission to the Office of Management and Budget for Review and Approval; Comment Request; Annual Mandatory Collection of Elementary and Secondary Education Data for EDFacts

AGENCY: Office of Planning, Evaluation and Policy Development, Department of Education (ED).

ACTION: Notice.

SUMMARY: In accordance with the Paperwork Reduction of 1995, ED is proposing a revision of an existing information collection.

DATES: Interested persons are invited to submit comments on or before January 11, 2013.

ADDRESSES: Comments submitted in response to this notice should be submitted electronically through the Federal eRulemaking Portal at http://www.regulations.gov by selecting Docket ID number ED-2012-ICCD-0063 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual Mandatory Collection of Elementary and Secondary Education Data for EDFacts.

OMB Control Number: 1875-0240.

Type of Review: Revision of an existing information collection.

Respondents/Affected Public: State, Local or Tribal Governments.

Total Estimated Number of Annual Responses: 55.

Total Estimated Number of Annual Burden Hours: 116,325.

Abstract: The collection, use, and reporting of education data is an integral component of the mission of the U.S. Department of Education (ED). EDFacts, an ED initiative to put performance data at the center of ED's policy, management, and budget decision-making processes for all K-12 educational programs, has transformed the way in which ED collects and uses data. EDFacts provides an electronic submission system for state education agencies (SEAs), and centralizes within ED the availability of the performance data supplied by SEAs to enable better analysis and use in policy development, planning, and management. ED is currently in the process of collecting data for the 2010-11, 2011-12, and 2012-13 school years as approved by OMB (1875-0240). ED seeks another three-year approval for this collection. The proposed collection includes the 2013-14, 2014-15, and 2015-16 school years. (As part of this approval, it should be understood that ED is authorized to collect the data about these school years over whatever time is required to secure complete and accurate data from each state education agency.) ED seeks OMB approval under the Paperwork Reduction Act to collect the elementary and secondary education data from state education agencies as described in the five sections of Attachment B that document all of the data groups. ED encourages the public to review, at a minimum, Attachment C, which outlines the changes between what is currently collected and what is newly proposed for collection. To the extent that any of these proposed new data groups are not available as of the 2013-14 school year, ED seeks to know from the SEA data providers if those data will be available in future years. If information for a data group is not currently available, please provide information beyond the fact that it is not available. Are there specific impediments to providing this data that you can describe? Is the definition for the data group unclear or ambiguous? Do the requested permitted values align with the way your state collects the data? This is very important information because the collection of these data is mandatory. ED also seeks to know if the SEA data definitions are consistent and compatible with the EDFacts definitions and accurately reflect the way data is stored and used for education by state education agencies. The answers to these questions by the data providers will influence the timing and content of the final EDFacts proposal for the collection of these data.

Dated: December 6, 2012.
Stephanie Valentine,
Acting Director, Information Collection Clearance Division, Privacy, Information and Records Management Services,Office of Management.

[FR Doc. 2012-29924 Filed 12-11-12; 8:45 am]

BILLING CODE 4000-01-P